NUCLEAR REGULATORY COMMISSION

[Docket No. 50-458]

Entergy Gulf States, Inc., et al.; Notice of Issuance of Amendment to River Bend Station, Unit 1, Facility Operating License NPF-47

The U.S. Nuclear Regulatory Commission (Commission) has issued Amendment No. 114 to Facility Operating License No. NPF-47 issued to Entergy Gulf States, Inc. and Entergy Operations, Inc. (EOI, or the licensee), which revised the Technical Specifications for operation of the River Bend Station, Unit 1, located in Saint Francisville, Louisiana. The amendment is effective as of the date of issuance and shall be implemented no later than the start-up following the next refueling outage.

The amendment modified the Technical Specifications to increase the maximum allowable thermal power from 2894 megawatts thermal (MWt) to 3039 MWt.

The application for the amendment complies with the standards and requirements of the Atomic Energy Act of 1954, as amended (the Act), and the Commission's rules and regulations. The Commission has made appropriate findings as required by the Act and the Commission's rules and regulations in 10 CFR Chapter 1, which are set forth in the license amendment.

Notice of Consideration of Issuance of Amendment to Facility Operating License and Opportunity for a Hearing in connection with this action was published in the Federal Register on June 14, 2000 (65 FR 37413). No request for a hearing or petition for leave to intervene was filed following this notice.

The Commission has prepared an Environmental Assessment related to the action and has determined not to prepare an environmental impact statement. Based upon the environmental assessment, the Commission has concluded that the issuance of the amendment will not have a significant effect on the quality of the human environment (65 FR 58298).

For further details with respect to the action see (1) the application for amendment dated July 30, 1999, as supplemented by letters dated April 3, May 9, July 18, and August 24, and October 2, 2000, (2) Amendment No. 114 to License No. NPF-47, (3) the Commission's related Safety Evaluation, and (4) the Commission's Environmental Assessment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 6th day of October 2000.
Jefferey F. Harold,
Project Manager, Section 1, Project Directorate IV & Decommissioning, Division of Licensing Project Management, Office of Nuclear Reactor Regulation.

[FR Doc. 00-27511 Filed 10-25-00; 8:45 am]

BILLING CODE 7590-01-P